DEPARTMENT OF STATE

[Public Notice 5966]

Announcement of Meetings of the International Telecommunication Advisory Committee

SUMMARY: This notice announces meetings of the International Telecommunication Advisory Committee (ITAC) to prepare advice on U.S. positions for working party meetings of the Organization for Economic Co-operation & Development (OECD) and for the meeting of the Permanent Executive Committee of Organization of American States Inter-American Telecommunication Commission (COM/CITEL).

The ITAC will meet to prepare for the OECD December 2007 meetings of the Working Parties on the Information Economy (WPIE) and Communication and Information Services Policy (CISP) on November 29, 2007, at the Harry S Truman building (Main State) of the Department of State, room 5804, 2-4 p.m. Eastern Time. A conference bridge will be provided. Meeting details will be posted on the mailing list iccp-ps@eblist.state.gov. People desiring to participate on this list may apply to the secretariat at minardje@state.gov.

The ITAC will meet to prepare for the COM/CITEL December 2007 meeting on November 27, 2007, 2-4 p.m. Eastern Time at a location in the Washington Metro Area. A conference bridge will be provided if requested. Meeting details will be posted on the mailing list pcci-citel@eblist.state.gov. People desiring to participate on this list may apply to the secretariat at minardje@state.gov.

The meetings are open to the public.

Dated: November 5, 2007.
Doreen McGirr,
International Communications & Information Policy, Department of State.

[FR Doc. E7-22193 Filed 11-13-07; 8:45 am]

BILLING CODE 4710-07-P